DEPARTMENT OF THE INTERIOR

National Park Service

[NPS-WASO-NAGPRA-17550; PPWOCRADN0-PCU00RP14.R50000]

Notice of Inventory Completion: Robert S. Peabody Museum of Archaeology, Phillips Academy, Andover, MA

AGENCY: National Park Service, Interior.

ACTION: Notice.

SUMMARY: The Robert S. Peabody Museum of Archaeology has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Robert S. Peabody Museum of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Robert S. Peabody Museum of Archaeology at the address in this notice by March 30, 2015.

ADDRESSES: Dr. Ryan J. Wheeler, Robert S. Peabody Museum of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Museum of Archaeology, Phillips Academy, Andover, MA. The human remains and associated funerary objects were removed from ten sites in Massachusetts described here according to site location, county, and town, when available.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Robert S. Peabody Museum of Archaeology professional staff in consultation with representatives of the Wampanoag Repatriation Confederacy, representing the Wampanoag Tribe of Gay Head (Aquinnah), Mashpee Wampanoag Tribe (previously listed as the Mashpee Wampanoag Indian Tribal Council, Inc.), and the Assonet Band of the Wampanoag Nation (a non-federally recognized Indian group). Inventories of human remains and associated funerary objects from Wakefield, Georgetown, Shattuck Farm, Lowell Textile School, Poznick, Call, and Indian Rock sites were shared with the Abenaki Nation of New Hampshire (a non-federally recognized Indian group) and the Abenaki Nation of Missisquoi St. Francis/Sokoki Band (a non-federally recognized Indian group) in 1999, but consultation was not conducted with these groups.

History and Description of the Remains

Cape Cod-Southeastern Massachusetts

South Dennis

William W. Taylor removed human remains representing, at minimum, one individual at an unknown site in South Dennis, Barnstable County, MA, which were acquired by the Phillips Academy Department of Archaeology (now the Robert S. Peabody Museum of Archaeology) in 1913 (Peabody Accn. 54612). The human remains are one sternum fragment. The individual is a female juvenile to subadult. No known individuals were identified. No associated funerary objects are present.

No documentation exists for this site, other than the entries for the human remains in the museum catalog. Records indicate that two other lots of artifacts were accessioned from the same site, also acquired from William W. Taylor, including broken stone implements; most of these stone implements were deaccessioned, though one rough preform (Peabody Accn. 54613) is still at the museum. The presence of stone implements at the site corroborates the identification of the remains as Native American. Temporal association is not possible. Research by anthropologist Frank Speck (see his 1928 monograph “Territorial Subdivisions and Boundaries of the Wampanoag, Massachusett, and Nauset Indians,” Indian Notes and Monographs No. 44) places the area around South Dennis within the homeland of the Nauset, a group historically affiliated with the Wampanoag and Narragansett. Speck documents the Mashpee Wampanoag as the descendant community of Nauset and other Native American communities of the Cape Cod area after 1675. Bert Salwen's 1978 entry “Indians of Southern New England and Long Island: Early Period,” appearing in the Handbook of North American Indians: Northeast, edited by Bruce G. Trigger states that the indigenous groups in the region extending “from Saco Bay, Maine, to the vicinity of the Housatonic River, in Connecticut, and from Long Island inland to southern New Hampshire and Vermont” shared a cultural pattern (page 160-161). Elaborating on the work of Frank T. Siebert, Jr., linguist Jessie Little Doe Baird demonstrates linguistic unity among Wampanoag, Massachusett, and Pennacook peoples in adjacent parts of Rhode Island and Massachusetts, including the area on Cape Cod.

Wareham

William L. Greene removed human remains representing, at minimum, one individual at an unknown site in Wareham, Plymouth County, MA, at some time in the 1940s which were acquired by the Robert S. Peabody Museum of Archaeology prior to 2000 (Peabody Accn. 204.1). The human remains are cranial fragments. The teeth present exhibit wear on the deciduous molars and evidence of crowding with the eruption of the permanent teeth. The individual is a female juvenile, aged approximately 9-10 years old at time of death. No known individuals were identified. No associated funerary objects are present. Cranial anatomy and teeth are consistent with Native American ancestry.

Kathryn Fairbanks and David DeMello of the Robbins Museum of Archaeology in Middleborough, MA suggested that Greene was digging in the 1940s at a site located in Wareham near the Weweantic River called Horseshoe or Conant's Hill. Craig S. Chartier, Director of the Plymouth Archaeological Discovery Project, had not heard of Greene digging in Wareham, but confirmed that Conant's Hill was the focus of burial excavations in Wareham in the 1940s. Notes dated 1982 by Maurice Robbins confirms that William Greene excavated at that part of Conant's Hill known as “Site 13” during the period 1940-1946 along with members of the Middleboro Archaeology Club (see Massachusetts Historical Commission site file for Conant's Hill #19-PL-189). A Notice of Inventory Completion published by the Harvard University Peabody Museum of Archaeology and Ethnology in 2003 reported that according to museum records a lead ring was found in association with human remains at the Conant's Hill site, indicating that at least some of the burials at the site date to the Historic/Contact period (post-A.D. 1500). The National Register of Historic Places nomination for Conant's Hill indicates occupation from 4,500 years ago through A.D. 1650. Frank Speck (see his 1928 monograph “Territorial Subdivisions and Boundaries of the Wampanoag, Massachusett, and Nauset Indians,” Indian Notes and Monographs No. 44) places the area around Wareham within the homeland of the Wampanoag.

Merrimack River Valley-Northeastern Massachusetts

Wakefield

Between 1890 and 1901, Charles Perkins removed human remains representing, at minimum, one individual at an unknown site in Wakefield, Essex County, MA, which were acquired by the Phillips Academy Department of Archaeology (now the Robert S. Peabody Museum of Archaeology) in 1912 (Peabody Accn. 58335). The human remains are three fragmentary teeth. The individual is an adult of indeterminate sex. No known individuals were identified. No associated funerary objects are present.

No documentation exists for this site, other than the entries for the human remains in the museum catalog. Perkins collected other Native American artifacts from this site (Peabody Accn. 21201 through 21550 and 22644 through 22925), corroborating the identification of the human remains as Native American. Physical examination indicates that the remains are likely Native American. Temporal association is not possible. Frank Speck (see his 1928 monograph “Territorial Subdivisions and Boundaries of the Wampanoag, Massachusett, and Nauset Indians,” Indian Notes and Monographs No. 44) places the area around Wakefield within the homeland of the Massachusett. Speck notes that in the early seventeenth century the area north of the Charles River extending to the region of Lynn and Marblehead was controlled by the Massachusett sachem Nanepashemet. This branch of the Massachusetts had close relationships with both the Pennacook and Nipmuc. Bert Salwen's 1978 entry “Indians of Southern New England and Long Island: Early Period,” appearing in the Handbook of North American Indians: Northeast, edited by Bruce G. Trigger states that the indigenous groups in the region extending “from Saco Bay, Maine, to the vicinity of the Housatonic River, in Connecticut, and from Long Island inland to southern New Hampshire and Vermont” shared a cultural pattern (page 160-161). Elaborating on the work of Frank T. Siebert, Jr., linguist Jessie Little Doe Baird demonstrates linguistic unity among Wampanoag, Massachusett, and Pennacook peoples in adjacent parts of Rhode Island and Massachusetts, including the area around Wakefield.

Georgetown

Mrs. William J. Dow removed human remains representing, at minimum, one individual at an unknown site near Georgetown, Essex County, MA, which were acquired by the Phillips Academy Department of Archaeology (now the Robert S. Peabody Museum of Archaeology) in 1924 (Peabody Accn. 57205, 57206, and 57207). The human remains are fragments of a tibia, fibula, and crania. The individual is a female juvenile to subadult. No known individuals were identified. No associated funerary objects are present.

No documentation exists for this site, other than the entries for the human remains in the museum catalog. Physical examination indicates that the remains are likely Native American. Temporal association is not possible.

Shattuck Farm

In May 1914 and October 1921, human remains representing, at minimum, 6 individuals were removed from the Shattuck Farm site, Andover, Essex County, MA. The Shattuck Farm site is located on the second fluvial terrace at the “Great Bend” area on the south side of the Merrimack River. Investigations of this site were made by Warren K. Moorehead (1914) and Alfred V. Kidder (1921) on behalf of the Phillips Academy Department of Archaeology (now the Robert S. Peabody Museum of Archaeology) (Peabody Accn. 55996, 55997, 55998, 59240, 59241, and 90.121.1 through 90.121.16, and 90.122.1 through 90.122.3 and 90.124.1). Grave 1 includes two cremation burials: Burial 1 includes three fragmentary rib and other calcined bone fragments. The individual is an infant of indeterminate sex. Some of the calcined bone fragments appear to be copper stained. Burial 2 includes a variety of bone fragments from all parts of the body, but the fragmentary condition prohibits a detailed inventory. The individual represented is a juvenile, possibly a subadult of indeterminate sex. Ten associated funerary objects from Grave 1 are soil sample (1), pottery sherds (2), fire-cracked stone gorget (1), ceramic fragment (1), ochre (2), and unmodified pebbles (3). Grave 2 includes two burials: Burial 1 is fragmentary remains tentatively identified as a female, 30 years of age; Burial 2 consists of fragmentary teeth of a juvenile of indeterminate age. Six associated funerary objects are soil sample (1) and pottery sherds (5). Grave 3 contained a tooth of one sub-adult individual of indeterminate sex. Sixty associated funerary objects are bone tool or flint knapping tool kit (5), bone harpoon (1), pottery sherds (23), chipped stone biface fragment (1), chipped stone flake (1), charcoal sample (1), ochre sample (1), felsite and quartz flakes (17), burnt rock fragments (9), and soil matrix sample (1). Grave 4 contained the fragmentary remains of one adult individual, 30-35 years of age, of indeterminate sex. No associated funerary objects are present. No known individuals were identified.

Information about the Shattuck Farm site is found in Barbara E. Luedtke's report “The Camp at the Bend in the River: Prehistory at the Shattuck Farm Site,” published by the Massachusetts Historical Commission in 1985, the files of the Robert S. Peabody Museum of Archaeology, and the files of the Massachusetts Historical Commission, (site #19-ES-196). The burials excavated by Alfred Kidder in 1921 were located on a sandy knoll near the river, and the notes on file suggest he was working on the kame terrace, probably toward the eastern edge of the site. Much of this kame terrace has been lost to bulldozing and construction and testing at the site by Luedtke in the early 1980s indicates considerable horizontal temporal variation across the site, including on remaining portions of the kame terrace. For example, Luedtke's Locus C and H sampled remaining portions of the kame terrace, but found evidence of occupation from Early through Late Woodland times (from 2,500 to 350 years ago). Artifacts found with some burials excavated by others at Shattuck Farm from the kame terrace dated to the period of European Contact, though others may have been much earlier. For example, Fred Luce, who excavated in the kame terrace burial area about the same time that Warren Moorehead was at the site described one burial as a “red paint grave,” alluding to the Moorehead Burial Tradition known from the Late Archaic. Overall, Shattuck Farm exhibits continuous use from the Late Archaic around 6,000 years ago well into the seventeenth century.

Lowell Textile School

At an unknown date, unknown persons removed human remains representing, at minimum, one individual at a site located at the Lowell Textile School in Lowell, Middlesex County, MA (now the location of the North Campus of the University of Massachusetts, Lowell), which were acquired by the Phillips Academy Department of Archaeology (now the Robert S. Peabody Museum of Archaeology) in 1900 from George Sawtelle (Peabody Accn. 90.115.1 and 90.120.1). The human remains are fragmentary. The individual is an adult female, 30-35 years of age at death. The morphology of the palate and the teeth indicate Native American ancestry. No known individuals were identified. Associated funerary objects are 1 pottery sherd.

Information about the Lowell Textile School site is found in the files of the Robert S. Peabody Museum of Archaeology, records maintained by Eugene C. Winter, and the files of the Massachusetts Historical Commission, (site #19-MD-46). The Lowell Textile School site is located on a high bluff overlooking Pawtucket Falls on the western side of the Merrimack River. The site files of the Massachusetts Historical Commission describe the site here “as a large Native American village,” and numerous collections from the site are noted in the records. Warren Moorehead, in his 1931 report “The Merrimack Archaeological Survey: A Preliminary Paper” notes that at the Lowell Textile School burials had been found when the boiler house was erected and that numerous artifacts could still be located in the area (page 25). Research by Eugene Winter indicates that the site was likely a fishing station to take advantage of the falls and that Passaconaway, sachem of the Pawtucket, used this site as his southernmost headquarters.

Poznick Site

In 1978, Eugene C. Winter and Richard “Scotty” MacNeish removed human remains representing, at minimum, one individual from the Poznick site in Lowell, Middlesex County, MA, under the auspices of the Robert S. Peabody Foundation for Archaeology (now the Robert S. Peabody Museum of Archaeology) (Peabody Accn. 90.111.1). The individual is an adult male, 40-45 years old at time of death. The human remains are fragmentary, but nearly complete. No known individuals were identified. No associated funerary objects are present.

Information about the Poznick site, or Trull Farm site, is found in Susan I. Thorstensen's 1977 article “The Poznick Site: A Preliminary Report” published in The New Hampshire Archeologist (No. 19, paes 9-16), the files of the Robert S. Peabody Museum of Archaeology, records maintained by Eugene C. Winter, who was involved in some excavations at the Poznick site, and the files of the Massachusetts Historical Commission, (site #19-MD-47). The Poznick site is located downstream and on the opposite bank (eastern side) of the Merrimack River from the Lowell Textile School site (see above), which has been described as the location of a Pawtucket or Pennacook village. Thorstensen's excavations, conducted prior to the discovery of the burial, revealed a long history of occupation dating back to the Middle Archaic and continuing through the Late Archaic and Early and Middle Woodland periods as well. Eugene Winter's research indicates that the Poznick site may have been on land that was reserved by English law for the Native Americans of the village of Wamesit. According to Winter, the land at the Poznick site was demarcated by a ditch dug around it (see Wilson Waters 1917 book “History of Chelmsford, Massachusetts,” page 78, which mentions a ditch constructed at Wamesit after 1660 and the merger of two or more towns, and Charles Cowley's 1868 book “A History of Lowell,” 2nd revised edition, page 12, which describes the boundary ditch that demarcated about 2,500 acres of the Wamesit Indian Reservation, still visible in the 1860s).

Call Site, Billerica

In 1957, Douglas Jordan and Eugene Winter removed human remains representing, at minimum, two individuals from the Call site in Billerica, Middlesex County, MA, which were transferred to the Robert S. Peabody Foundation for Archaeology (now the Robert S. Peabody Museum of Archaeology) (Peabody Accn. 90.112.1, 90.112.2 and 90.119.1 through 90.119.8). The Call site is located at a sharp bend four miles upstream on the Concord River from its confluence with the Merrimack River. Fragmentary remains uncovered during road construction represent an adult male and one adult female, 35-40 years of age. No known individuals were identified. Sixty-six associated funerary objects accompanied the adult male, including chipped stone projectile points (2), pottery sherds (2), burned animal bone fragments (6), small flat pebbles (2), charcoal sample (1), chipped stone flakes (43), and unmodified rocks (10).

Information about the Call site is found in Walter A. Vossberg and J. Alfred Mansfield's 1955 article “A Preliminary Report on the Concord River Site at Billerica, Massachusetts M-11SE9” and Eugene C. Winter's 2006 article, “An Atlantic Phase Mortuary Feature at the Call Site, Billerica, MA,” both published in the Bulletin of the Massachusetts Archaeological Society, from the files of the Robert S. Peabody Museum of Archaeology, in notes by Eugene Winter dated August 23, 1992, undated field notes, and the files of the Massachusetts Historical Commission (site #19-MD-37). The Call site is described as “a large area 18 inches higher that surrounding plain above swamp to north and west which leads to river and brook.” The site is located on the east side of the Concord River. It is important to note that the remains and associated funerary objects reported here are not those described in Winter's 2006 article; those remains were excavated from the same site in 1954. Winter's 1992 notes describe the burials found initially by a Mr. Harley McCauley who was digging at the site in an area where boulders were exposed above the ground surface. Mr. McCauley's digging around the boulders exposed human remains and obscured evidence of the original burial pit, which appears to have been about 33 inches deep and may have been lined with stone cobbles. Unlike the cremation burial reported from the site in Winter's 2006 article, the two burials reported here appear to have been bundle burials; Winter suggests in his 1992 notes that the associated funerary objects reported here may have been accidental inclusions in the burial pit fill. One of the chipped stone projectile points is identified as a Levanna, dating to 1,300 to 600 years ago.

Indian Rock Site, North Billerica

In the 1880s, James Haulton removed human remains representing, at minimum, one individual from the vicinity of Indian Rock in North Billerica, Middlesex County, MA, which were acquired by Mrs. Luther W. Faulkner and subsequently donated by her to the Billerica Historical Society; the dates of Mrs. Faulkner's acquisition and donation are unknown. The Billerica Historical Society transferred the remains to the Robert S. Peabody Museum of Archaeology in 1993 (Peabody Accn. 90.114). Indian Rock is described as a small island just north of a major bend in the Concord River in the vicinity of present-day Hampstead Avenue. The individual is an adult male, approximately 50 years old at time of death. The human remains are a cranium with anterior dentition lost during life and evidence of considerable periodontal disease. Archival material identifies the remains as those of a Native American known as Punjoe or Ponjo who was murdered by white settlers near the end of the eighteenth century. No associated funerary objects are present.

Information about the archeological sites recorded in this area are found in the files of the Massachusetts Historical Commission (site #19-MD-35) and the files of the Robert S. Peabody Museum of Archaeology. Warren Moorehead, in his 1931 report “The Merrimack Archaeological Survey: A Preliminary Paper” describes this area as “a long sand ridge flanking the Concord River, and where the dam is located were originally falls, also noting that two poorly preserved burials were found in the sand ridge, each covered with a thin layer of charcoal (page 24). Additional information about Punjoe and the Indian Rock site are found in the records of the Billerica Historical Society, including an undated transcript of a letter from Mrs. Faulkner (circa late nineteenth century), and in the transcript of an address by Charles H. Kohlrausch Jr.to the Billerica Historical Society delivered June 13, 1903 titled “A Paper on the Early History of North Billerica.” A similar account is found in the February 1915 edition of the monthly leaflet “Billerica” (Volume 3, No. 9). Matthew Harvey Kohlrausch (son of Charles H. Kohlrausch Jr.) provides a slightly different version of the story in his “Billerica Recollections,” transcribed and on file with the Billerica Historical Society. Each version of the story provides a few details and all vary slightly, but agree that Punjoe was the last of the Wamesit Indians living in the Billerica area who was pursued and murdered by white settlers led by members of the Rogers family, down the Concord River after some unidentified conflict. The account published in 1915 explains that he hid on Indian Rock in order to evade his pursuers, but was discovered, shot, and buried on “a sandy knoll on the east side of the river.” The 1915 account and the 1903 paper by Charles Kohlrausch concur that Punjoe's skull and some long bones were removed from his grave and were in the possession of the Billerica Historical Society. The 1915 account states that other American Indian graves were located in the same vicinity. The society no longer had long bones in 1993 when the remains were transferred to the Robert S. Peabody Museum of Archaeology. The undated account (probably written between 1912 and 1929) by Matthew H. Kohlrausch asserts that this American Indian individual was pursued and killed by Anglo-American settlers after murdering the wife of John Rogers; he also notes that his father had the remains for some time, but that they were ultimately incinerated. It is worth noting that all of these accounts date to sometime in the nineteenth or early twentieth centuries after the remains had been excavated and are not contemporary with the pursuit and murder being described.

Wamesit was established in the area now known as Chelmsford as a “Praying Indian” town in 1653 in response to a petition filed by John Eliot. Kathleen J. Bragdon, writing in her 2009 book Native People of Southern New England, 1650-1775 (page 201) indicates that these Praying Indian communities were often comprised of indigenous people of a variety of ethnic and linguistic groups. By 1675 the tensions of King Philip's War forced native people to abandon towns like Wamesit; in 1686 tribal leader Wonalancet deeded the remaining Wamesit lands to Anglo-American settlers from Chelmsford. The 1695 massacre of John Rogers and members of his family while living on the fringes of Billerica may likely be the origin of part of the story related by Matthew Harvey Kohlrausch, though it would appear there are considerable misunderstandings of chronology and events. American Indians did, however, continue to live in their historical homelands after the demise of the praying communities, though often were portrayed as the last of their kind in the literature of the nineteenth century. David Steward-Smith notes in his dissertation, cited above, that there are at least three stories that describe the persistence of Pennacook people in the area along the Merrimack River well into the eighteenth century, often recounted as “lastings” that describe the last of a particular indigenous community (pages 287-288). One individual who figures into these stories is Pehaugan or Pehaungun, described as “the last of the Pennacooks,” who is noted in an encounter with Captain Ebenezer Eastman in 1726 on the lands historically occupied by Passaconaway and his people. According to Nathaniel Bouton in his 1856 book “The History of Concord from its First Grant in 1725, to the Organization of the City Government in 1853, with a History of the Ancient Pennacooks,” Pehaungun is described as being 120 years old; he died in 1732 and was buried by other American Indians in the area. Bouton also mentions that Pehaungun and Tahanto, another Pennacook leader, provided testimony during the trial of one of an Indian accused of the murder of Thomas Dickinson in 1668. Stewart-Smith notes the obviously problematical nature of accounts like Bouton's. It is possible, however, that accounts of Pehaugan and Tahanto, coupled with the discovery of a burial site, may have provided source material for the late nineteenth and early twentieth century accounts of “Punjoe.”

The Georgetown, Shattuck Farm, Lowell Textile School, Poznick, Call, and Indian Rock sites are within the homeland historically occupied by the Pennacook or Pawtucket, who lived in the Merrimack River valley and adjacent areas of northeastern Massachusetts and New Hampshire. David Steward-Smith, in his 1998 Union Institute dissertation “The Pennacook Indians and the New England Frontier, circa 1606-1733” discusses the coalescence of indigenous groups following King Philip's War (1675-1678), including the Nipmuc, Wampanoag, Pocumtuck, and Narragansett who sought refuge among the Pennacook (p. 339). The historical accounts compiled by Stewart-Smith indicate consistent alliances with Abenaki peoples to the north. Bert Salwen's 1978 entry “Indians of Southern New England and Long Island: Early Period,” appearing in the Handbook of North American Indians: Northeast, edited by Bruce G. Trigger states that the indigenous groups in the region extending “from Saco Bay, Maine, to the vicinity of the Housatonic River, in Connecticut, and from Long Island inland to southern New Hampshire and Vermont” shared a cultural pattern (page 160-161). Elaborating on the work of Frank T. Siebert, Jr., linguist Jessie Little Doe Baird demonstrates linguistic unity among Wampanoag, Massachusett, and Pennacook peoples in adjacent parts of Rhode Island and Massachusetts, including the area around the Georgetown, Shattuck Farm, Lowell Textile School, Poznick, Call, and Indian Rock sites.

Determinations Made by the Robert S. Peabody Museum of Archaeology

Officials of the Robert S. Peabody Museum of Archaeology have determined that:

• Pursuant to 25 U.S.C. 3001(9), the human remains described in this notice represent the physical remains of 15 individuals of Native American ancestry.

• Pursuant to 25 U.S.C. 3001(3)(A), the 143 objects described in this notice are reasonably believed to have been placed with or near individual human remains at the time of death or later as part of the death rite or ceremony.

• Pursuant to 25 U.S.C. 3001(2), there is a relationship of shared group identity that can be reasonably traced between the Native American human remains and associated funerary objects and the Wampanoag Repatriation Confederacy, representing the Mashpee Wampanoag Tribe (previously listed as the Mashpee Wampanoag Indian Tribal Council, Inc.), the Wampanoag Tribe of Gay Head (Aquinnah), and, if joined, the Assonet Band of the Wampaog Nation, a non-federally recognized Indian group.

Additional Requestors and Disposition

Lineal descendants or representatives of any Indian tribe or Native Hawaiian organization not identified in this notice that wish to request transfer of control of these human remains and associated funerary objects should submit a written request with information in support of the request to Dr. Ryan J. Wheeler, Robert S. Peabody Museum of Archaeology, Phillips Academy, 180 Main Street, Andover, MA 01810, telephone (978) 749-4490, email rwheeler@andover.edu, by March 30, 2015. After that date, if no additional requestors have come forward, transfer of control of the human remains and associated funerary objects to the Wampanoag Repatriation Confederacy, representing the Mashpee Wampanoag Tribe (previously listed as the Mashpee Wampanoag Indian Tribal Council, Inc.), the Wampanoag Tribe of Gay Head (Aquinnah), and, if joined, the Assonet Band of the Wampaog Nation, a non-federally recognized Indian group.

The Robert S. Peabody Museum of Archaeology is responsible for notifying the Wampanoag Repatriation Confederacy, representing the Mashpee Wampanoag Tribe (previously listed as the Mashpee Wampanoag Indian Tribal Council, Inc.), the Wampanoag Tribe of Gay Head (Aquinnah), and the Assonet Band of the Wampaog Nation, a non-federally recognized Indian group, that this notice has been published.

Dated: January 23, 2015.
Melanie O'Brien,
Acting Manager, National NAGPRA Program.

[FR Doc. 2015-04062 Filed 2-25-15; 8:45 am]

BILLING CODE 4312-50-P